DEPARTMENT OF HEALTH AND HUMAN SERVICES

Centers for Disease Control and Prevention

Disease, Disability and Injury Prevention and Control Special Emphasis Panel: Demonstration Projects for the Early Intervention and Prevention of Sexual Violence and Intimate Partner Violence Among Racial and Ethnic Minority Populations, PA# 00074

In accordance with section 10(a)(2) of the Federal Advisory Committee Act (Pub.L. 92-463), the Centers for Disease Control and Prevention (CDC) announces the following meeting.

Name: Disease, Disability and Injury Prevention and Control Special Emphasis Panel: Demonstration Projects for the Early Intervention and Prevention of Sexual Violence and Intimate Partner Violence Among Racial and Ethnic Minority Populations, PA# 00074.

Times and Dates:

8 a.m.-8:45 a.m. August 21, 2000 (Open)

8:45 a.m.-5:30 p.m. August 21, 2000 (Closed)

8 a.m.-5:30 p.m. August 22, 2000 (Closed)

Place: Crowne Plaza Hotel, Atlanta Airport Virginia Avenue, Atlanta, Georgia 30344. Telephone 404/768-6660.

Status: Portions of the meeting will be closed to the public in accordance with provisions set forth in section 552b(c)(4) and (6), Title 5 U.S.C., and the Determination of the Associate Director for Management and Operations, CDC, pursuant to P.L. 92-463.

This notice is published less than 15 days prior to the meeting due to administrative delays.

Matters To Be Discussed: The meeting will include the review, discussion, and evaluation of applications received in response to Program Announcement 00074.

Contact Person for More Information: James S. Belloni, Centers for Disease Control and Prevention, National Center for Injury Prevention and Control, 4770 Buford Hwy., m/s K02, Atlanta, GA 30341. Telephone 770/488-4538, email jsb1@cdc.gov.

The Director, Management Analysis and Services Office, has been delegated the authority to sign Federal Register Notices pertaining to announcements of meetings and other committee management activities, for both the Centers for Disease Control and Prevention and the Agency for Toxic Substances and Disease Registry.

Dated: August 4, 2000.
Carolyn J. Russell,
Director, Management Analysis and Services Office, Centers for Disease Control and Prevention.

[FR Doc. 00-20399 Filed 8-8-00; 2:19 pm]

BILLING CODE 4163-18-P